DEPARTMENT OF AGRICULTURE

Commodity Credit Corporation

Natural Resources Conservation Service

Conservation Security Program; Correction

AGENCY: Natural Resources Conservation Service and Commodity Credit Corporation, USDA.

ACTION: Notice; Correction on March 27, 2008, (73 FR 16246).

SUMMARY: The Commodity Credit Corporation and Natural Resources Conservation Service published in the Federal Register on March 27, 2008, (73 FR 16246), a document stating “Notice of the Conservation Security Program, (CSP-08-01) sign-up. This notice corrects the end date from May 17, 2008 to May 16, 2008, in the SUMMARY and SUPPLEMENTARY INFORMATION sections of the previously published document.

Additionally, page 16251 of the Federal Register, Vol. 73, No. 60, dated Thursday, March 27, 2008, contains a 2008 Conservation System Criteria—Cropland table that requires numerical corrections. The 2008 Conservation System Criteria—Cropland table needs to be revised by deleting:

• from the Group Level 2 row—“and ≤ 178”.

• from the Group Level 3 row—“and ≤ 154”.

• from the Group Level 4 row—“and ≤ 132”.

The revised table with corrected language follows.

FOR FURTHER INFORMATION CONTACT: Dwayne Howard, Branch Chief—Stewardship Programs, Financial Assistance Programs Division, NRCS, P.O. Box 2890, Washington, DC 20013-2890, telephone: (202) 720-1845; fax: (202) 720-4265. Submit e-mail to: dwayne.howard@wdc.usda.gov, Attention: Conservation Security Program.

Signed in Washington, DC, on April 4, 2008.
Arlen Lancaster,
Vice President, Commodity Credit Corporation, Chief, Natural Resources Conservation Service.

[FR Doc. E8-7629 Filed 4-9-08; 8:45 am]

BILLING CODE 3410-16-P